DEPARTMENT OF AGRICULTURE

Forest Service

Shasta-Trinity National Forest; California; I-5 Corridor Fuels Reduction Project

AGENCY: Forest Service, USDA.

ACTION: Withdrawal of Notice of Intent to prepare an Environmental Impact Statement.

SUMMARY: The Shasta-Trinity National Forest is withdrawing its Notice of Intent issued on April 22, 2011, for preparation of an Environmental Impact Statement (EIS) for the I-5 Corridor Fuels Reduction Project. No significant issues were identified during this scoping period or any other opportunity to comment. Upon further evaluation, it also appears that there are no potential significant impacts to the human environment associated with the project. As a result, the Forest is withdrawing its intent to prepare an EIS and is now preparing an Environmental Assessment (EA). All comments previously received regarding this project will be retained and considered in the development of the EA. If it is determined that the project may have significant impacts, the EIS process will be reinitiated and a notice of intent will be published.

FOR FURTHER INFORMATION CONTACT: Questions concerning this notice and requests to be added to the project mailing list should be directed to Andrew Spain, Shasta Lake Ranger District, Shasta-Trinity National Forest, 14225 Holiday Road, Redding, CA 96003. Telephone: (530) 242-5548. Email: aspain@fs.fed.us. Individuals who have previously submitted comments on this project will remain on the project mailing list and do not need to contact the Forest.

Dated: June 8, 2018.
Chris French,
Associate Deputy Chief, National Forest System .

[FR Doc. 2018-14578 Filed 7-6-18; 8:45 am]

BILLING CODE 3411-15-P